DEPARTMENT OF JUSTICE

Antitrust Division

Notice Pursuant to the National Cooperative Research and Production Act of 1993—Management Service Providers Association, Inc.

Notice is hereby given that, on May 15, 2001, pursuant to section 6(a) of the National Cooperative Research and Production Act of 1993, 15 U.S.C. et seq. (“The Act”), Management Services Providers Association, Inc. has filed written notifications simultaneously with the Attorney General and the Federal Trade Commission disclosing changes in its membership status. The notifications were filed for the purpose of extending the Act's provisions limiting the recovery of antitrust plaintiffs to actual damages under specified circumstances. Specifically, AimNet Solutions, Inc., Norwalk CT; Applicant, Seattle, WA; CoreFuzion, Inc., Santa Clara, CA; Eccord Systems Ltd., San Jose, CA; Hitachi Electronics Services Co., Ltd., Yokohama, Japan, hub information technology limited, Sydney, New South Wales, Australia; ISP Co., Ltd., Kangriam-ku, Seoul, Republic of Korea; IT Guardian, Kooloon, Hong Kong—China; Iworld Holdings Limited, Seoul, Republic of Korea; NetEffect Corporation, Atlanta, GA; Omegon, Inc., Somerset, NJ; Progress Software Corporation, Bedford, MA; RedSiren, Pittsburgh, PA; SaskTel—QuantumLynx, Regina, Saskatchewan, Canada; SPS Gensys, Reeusijk, Netherlands; and Totality Corporation, San Francisco, CA have been added as parties to this venture.

No other changes have been made in either the membership or planned activity of the group research project. Membership in this group research project remains open, and Management Services Providers Association, Inc. intends to file additional written notification disclosing all changes in membership.

On October 20, 2000, Management Services Providers Association, Inc. filed its original notification pursuant to section 6(a) of the Act. The Department of Justice published a notice in the Federal Register pursuant to Section 6(b) of the Act on November 24, 2000 (65 FR 70613).

The last notification was filed with the Department on February 5, 2001. A notice was published in the Federal Register pursuant to section 6(b) of the Act on March 8, 2001 (66 FR 13970).

Constance K. Robinson,
Director of Operations, Antitrust Division.

[FR Doc. 01-18085 Filed 7-18-01; 8:45 am]

BILLING CODE 4410-11-M